DEPARTMENT OF HOMELAND SECURITY

Federal Emergency Management Agency

[Docket ID FEMA-2024-0002]

Changes in Flood Hazard Determinations

AGENCY: Federal Emergency Management Agency, Department of Homeland Security.

ACTION: Notice.

SUMMARY: New or modified Base (1-percent annual chance) Flood Elevations (BFEs), base flood depths, Special Flood Hazard Area (SFHA) boundaries or zone designations, and/or regulatory floodways (hereinafter referred to as flood hazard determinations) as shown on the indicated Letter of Map Revision (LOMR) for each of the communities listed in the table below are finalized. Each LOMR revises the Flood Insurance Rate Maps (FIRMs), and in some cases the Flood Insurance Study (FIS) reports, currently in effect for the listed communities.

DATES: Each LOMR was finalized as in the table below.

ADDRESSES: Each LOMR is available for inspection at both the respective Community Map Repository address listed in the table below and online through the FEMA Map Service Center at https://msc.fema.gov.

FOR FURTHER INFORMATION CONTACT: Rick Sacbibit, Chief, Engineering Services Branch, Federal Insurance and Mitigation Administration, FEMA, 400 C Street SW, Washington, DC 20472, (202) 646-7659, or (email) patrick.sacbibit@fema.dhs.gov; or visit the FEMA Mapping and Insurance eXchange (FMIX) online at https://www.floodmaps.fema.gov/fhm/fmx_main.html.

SUPPLEMENTARY INFORMATION: The Federal Emergency Management Agency (FEMA) makes the final flood hazard determinations as shown in the LOMRs for each community listed in the table below. Notice of these modified flood hazard determinations has been published in newspapers of local circulation and 90 days have elapsed since that publication. The Deputy Associate Administrator for Insurance and Mitigation has resolved any appeals resulting from this notification.

The modified flood hazard determinations are made pursuant to section 206 of the Flood Disaster Protection Act of 1973, 42 U.S.C. 4105, and are in accordance with the National Flood Insurance Act of 1968, 42 U.S.C. 4001 et seq., and with 44 CFR part 65. The currently effective community number is shown and must be used for all new policies and renewals.

The new or modified flood hazard information is the basis for the floodplain management measures that the community is required either to adopt or to show evidence of being already in effect in order to remain qualified for participation in the National Flood Insurance Program (NFIP).

This new or modified flood hazard information, together with the floodplain management criteria required by 44 CFR 60.3, are the minimum that are required. They should not be construed to mean that the community must change any existing ordinances that are more stringent in their floodplain management requirements. The community may at any time enact stricter requirements of its own or pursuant to policies established by other Federal, State, or regional entities.

This new or modified flood hazard determinations are used to meet the floodplain management requirements of the NFIP. The changes in flood hazard determinations are in accordance with 44 CFR 65.4.

Interested lessees and owners of real property are encouraged to review the final flood hazard information available at the address cited below for each community or online through the FEMA Map Service Center at https://msc.fema.gov.

(Catalog of Federal Domestic Assistance No. 97.022, “Flood Insurance.”)

Nicholas A. Shufro,
Assistant Administrator (Acting) for Risk Management, Federal Emergency Management Agency, Department of Homeland Security.

State and county | Location and case No. | Chief executive officer of community | Community map repository | Date of modification | Community No.
Arkansas: Benton (FEMA Docket No.: B-2431) | City of Bentonville (23-06-1761P) | The Honorable Stephanie Orman, Mayor, City of Bentonville, 305 Southwest A Street, Bentonville, AR 72712 | Engineering Department, 3200 Southwest Municipal Drive, Bentonville, AR 72712 | Jul. 8, 2024 | 050012
Colorado: Jefferson (FEMA Docket No.: B-2424) | Unincorporated areas of Jefferson County (23-08-0204P) | Lesley Dahlkemper, Chair, Jefferson County Board of Commissioners, 100 Jefferson County Parkway, Suite 5550, Golden, CO 80419 | Jefferson County Planning and Zoning Division, 100 Jefferson County Parkway, Suite 3550, Golden, CO 80419 | Jul. 5, 202 | 08008
Florida:
Lee (FEMA Docket No.: B-2431) | Village of Estero (23-04-0983P) | The Honorable Jon McLain, Mayor, Village of Estero, 9401 Corkscrew Palms Circle, Estero, FL 33928 | Village Hall, 9401 Corkscrew Palms Circle, Estero, FL 33928 | Jul. 15, 202 | 12026
Lee (FEMA Docket No.: B-2431) | Unincorporated areas of Lee County (23-04-0983P) | David Harner, Lee County Manager, 2115 2nd Street, Fort Myers, FL 33901 | Lee County Building Department, 1500 Monroe Street, Fort Myers, FL 33901 | Jul. 15, 202 | 125124
Monroe (FEMA Docket No.: B-2424) | Village of Islamorada (24-04-1016P) | The Honorable Joseph “Buddy” Pinder III, Mayor, Village of Islamorada, 86800 Overseas Highway, Islamorada, FL 33036 | Building Department, 86800 Overseas Highway, Islamorada, FL 33036 | Jul. 5, 202 | 12042
Orange (FEMA Docket No.: B-2424) | Unincorporated areas of Orange County (23-04-5298P) | The Honorable Jerry L. Demings, Mayor, Orange County, 201 South Rosalind Avenue, 5th Floor, Orlando, FL 32801 | Orange County Public Works Department, Stormwater Management Division, 4200 South John Young Parkway, Orlando, FL 32839 | Jul. 8, 202 | 12017
Pasco (FEMA Docket No.: B-2431) | Unincorporated areas of Pasco County (23-04-4336P) | Ron Oakley, Chair, Pasco County Board of Commissioners, 37918 Meridian Avenue, New Port Richey, FL 34654 | Pasco County Building Construction Services Department, 8661 Citizens Drive, Suite 100, New Port Richey, FL 34654 | Jul. 11, 202 | 12023
Seminole (FEMA Docket No.: B-2424) | City of Sanford (23-04-6286P) | The Honorable Art Woodruff, Mayor, City of Sanford, 300 North Park Avenue, Sanford, FL 32771 | City Hall, 300 North Park Avenue, Sanford, FL 32771 | Jun. 27, 202 | 12029
Volusia (FEMA Docket No.: B-2431) | City of Ormond Beach (23-04-6364P) | The Honorable Bill Partington, Mayor, City of Ormond Beach, 22 South Beach Street, Ormond Beach, FL 32174 | City Hall, 22 South Beach Street, Ormond Beach, FL 32174 | Jul. 12, 202 | 12513
Georgia:
Fulton (FEMA Docket No.: B-2431) | City of Alpharetta (23-04-5816P) | The Honorable Jim Gilvin, Mayor, City of Alpharetta, 2 Park Plaza, Alpharetta, GA 30009 | City Hall, 2 Park Plaza, Alpharetta, GA 30009 | Jul. 12, 202 | 13008
Gwinnett (FEMA Docket No.: B-2431) | Unincorporated areas of Gwinnett County (23-04-2557P) | Nicole Love Hendrickson, Chair, Gwinnett County Board of Commissioners, 75 Langley Drive, Lawrenceville, GA 30046 | Gwinnett County Department of Planning and Development, 446 West Crogan Street, Suite 300, Lawrenceville, GA 30046 | Jul. 15, 202 | 13032
Maine:
Hancock (FEMA Docket No.: B-2424) | City of Ellsworth (22-01-0658P) | Glenn Moshier, Manager, City of Ellsworth, 1 City Hall Plaza, Ellsworth, ME 04605 | City Hall, 1 City Hall Plaza, Ellsworth, ME 04605 | Jul. 8, 202 | 23006
Hancock (FEMA Docket No.: B-2424) | Town of Surry (22-01-0658P) | Mary Allen, Chair, Town of Surry Board of Selectmen, 741 North Bend Road, Surry, ME 04684 | Town Hall, 741 North Bend Road, Surry, ME 04684 | Jul. 8, 202 | 23029
North Carolina: Henderson (FEMA Docket No.: B-2431) | City of Hendersonville (22-04-5682P) | The Honorable Barbara Volk, Mayor, City of Hendersonville, 160 6th Avenue East Hendersonville, NC 28792 | City Hall, 305 Williams Street Hendersonville, NC 28792 | Jun. 28, 202 | 37012
Rhode Island: Washington (FEMA Docket No.: B-2424) | Town of Westerly (24-01-0093P) | Shawn Lacey, Manager, Town of Westerly, 45 Broad Street, 2nd Floor, Westerly, RI 02891 | Building Department, 68 White Rock Road, Westerly, RI 02891 | Jul. 5, 202 | 44541
Tennessee:
Davidson and Sumner (FEMA Docket No.: B-2431) | City of Goodlettsville (23-04-1929P) | The Honorable Rusty Tinnin, Mayor, City of Goodlettsville, 105 South Main Street, Goodlettsville, TN 37072 | City Hall, 318 North Main Street, Goodlettsville, TN 37072 | Jul. 8, 202 | 47028
Davidson (FEMA Docket No.: B-2431) | Metropolitan Government of Nashville-Davidson County (23-04-1929P) | The Honorable John Cooper, Mayor, Metropolitan Government of Nashville-Davidson County, 1 Public Square, Suite 100, Nashville, TN 37201 | Metro Water Services Administration Building, 1600 2nd Avenue North, Nashville, TN 37208 | Jul. 8, 202 | 47004
Sumner (FEMA Docket No.: B-2431) | City of Gallatin (23-04-4807P) | The Honorable Paige Brown, Mayor, City of Gallatin, 132 West Main Street, Gallatin, TN 37066 | City Hall, 132 West Main Street, Gallatin, TN 37066 | Jul. 12, 202 | 47018
Sumner (FEMA Docket No.: B-2431) | City of Hendersonville (23-04-4807P) | The Honorable Jamie Clary, Mayor, City of Hendersonville, 101 Maple Drive North, Hendersonville, TN 37075 | City Hall, 101 Maple Drive North, Hendersonville, TN 37075 | Jul. 12, 202 | 47018
Sumner (FEMA Docket No.: B-2431) | Unincorporated areas of Sumner County (23-04-4807P) | The Honorable John C. Isbell, Mayor, Sumner County, 355 North Belvedere Drive, Room 102, Gallatin, TN 37066 | Sumner County Administration Building, 355 North Belvedere Drive, Gallatin, TN 37066 | Jul. 12, 202 | 47034
Texas:
Bell (FEMA Docket No.: B-2431) | City of Copperas Cove (23-06-1940P) | Ryan Haverlah, Manager, City of Copperas Cove, 914 South Main Street, Suite D, Copperas Cove, TX 76522 | Development Services Department, 914 South Main Street, Suite G, Copperas Cove, TX 76522 | Jul. 15, 202 | 48015
Bell (FEMA Docket No.: B-2431) | City of Killeen (24-06-0682P) | The Honorable Debbie Nash-King, Mayor, City of Killeen, P.O. Box 1329, Killeen, TX 76541 | City Hall, 101 North College Street, Killeen, TX 76541 | Jul. 11, 202 | 48003
Caldwell (FEMA Docket No.: B-2431) | City of Lockhart (24-06-0378P) | The Honorable Lew White, Mayor, City of Lockhart, P.O. Box 239, Lockhart, TX 78644 | City Hall, 308 West San Antonio Street, Lockhart, TX 78644 | Jul. 12, 202 | 48009
Caldwell (FEMA Docket No.: B-2431) | Unincorporated areas of Caldwell County (24-06-0378P) | The Honorable Hoppy Haden, Caldwell County Judge, 110 South Main Street, Room 101, Lockhart, TX 78644 | Caldwell County Justice Center, 1703 South Colorado Street, Lockhart, TX 78644 | Jul. 12, 202 | 48009
Collin (FEMA Docket No.: B-2431) | City of Plano (23-06-2014P) | The Honorable John B. Muns, Mayor, City of Plano, 1520 K Avenue, Plano, TX 75074 | Engineering Department, 1520 K Avenue, Plano, TX 75074 | Jul. 15, 202 | 48014
Galveston (FEMA Docket No.: B-2424) | City of League City (23-06-0963P) | John Baumgartner, City of League City Manager, 300 West Walker Street, League City, TX 77573 | City Hall, 300 West Walker Street, League City, TX 77573 | Jun. 28, 202 | 48548
Galveston (FEMA Docket No.: B-2424) | Unincorporated areas of Galveston County (23-06-0963P) | The Honorable Mark Henry, Galveston County Judge, 722 Moody Avenue, Galveston, TX 77550 | Galveston County Courthouse, 722 Moody Avenue, Galveston, TX 77550 | Jun. 28, 202 | 48547
Grayson (FEMA Docket No.: B-2424) | City of Howe (23-06-2585P) | The Honorable Karla McDonald, Mayor, City of Howe, 116 East Haning Street, Howe, TX 75459 | City Hall, 116 East Haning Street, Howe, TX 75459 | Jun. 26, 202 | 48083
Harris (FEMA Docket No.: B-2431) | Unincorporated areas of Harris County (22-06-2364P) | The Honorable Lina Hidalgo, Harris County Judge, 1001 Preston Street, Suite 911, Houston, TX 77002 | Harris County Permit Office, 1111 Fannin Street, 8th Floor, Houston, TX 77002 | Jul. 8, 202 | 48028
Montgomery (FEMA Docket No.: B-2431) | City of Conroe (23-06-1878P) | The Honorable Jody Czajkoski, Mayor, City of Conroe, 300 West Davis Street, Conroe, TX 77301 | City Hall, 700 Metcalf Street, Conroe, TX 77301 | Jun. 27, 202 | 48048
Montgomery (FEMA Docket No.: B-2431) | Unincorporated areas of Montgomery County (23-06-1878P) | The Honorable Mark J. Keough, Montgomery County Judge, 501 North Thompson Street, Suite 401, Conroe, TX 77301 | Alan B. Sadler Commissioners' Court Building, 501 North Thompson Street, Suite 401, Conroe, TX 77301 | Jun. 27, 202 | 48048
Tarrant (FEMA Docket No.: B-2431) | City of Fort Worth (23-06-0416P) | The Honorable Mattie Parker, Mayor, City of Fort Worth, 200 Texas Street, Fort Worth, TX 76102 | Department of Transportation and Public Works, Engineering Vault and Map Repository, 200 Texas Street, Fort Worth, TX 76102 | Jul. 1, 202 | 48059
Tarrant (FEMA Docket No.: B-2431) | City of Fort Worth (23-06-1452P) | The Honorable Mattie Parker, Mayor, City of Fort Worth, 200 Texas Street, Fort Worth, TX 76102 | Department of Transportation and Public Works, Engineering Vault and Map Repository, 200 Texas Street, Fort Worth, TX 76102 | Jul. 15, 202 | 48059
Tarrant (FEMA Docket No.: B-2431) | City of Grand Prairie (23-06-2070P) | The Honorable Ron Jensen, Mayor, City of Grand Prairie, 300 West Main Street, Grand Prairie, TX 75050 | Stormwater Department, 300 West Main Street, Grand Prairie, TX 75050 | Jul. 15, 202 | 48547
Tarrant (FEMA Docket No.: B-2431) | City of Haltom City (23-06-1452P) | The Honorable An Truong, Mayor, City of Haltom City, 5024 Broadway Avenue, Haltom City, TX 76117 | Public Works Department, 4200 Hollis Street, Haltom City, TX 76111 | Jul. 15, 202 | 48059
Tarrant (FEMA Docket No.: B-2431) | City of Keller (23-06-1786P) | The Honorable Armin Mizani, Mayor, City of Keller, P.O. Box 770, Keller, TX 76244 | Public Works Department, 1100 Bear Creek Parkway, Keller, TX 76248 | Jul. 15, 202 | 48060
Virginia: Prince William (FEMA Docket No.: B-2431) | Unincorporated areas of Prince William County (23-03-0600P) | Christopher Shorter, Prince William County Executive, 1 County Complex Court, Prince William, VA 22192 | Prince William County Environmental Management Division, 5 County Complex Court, Suite 170, Prince William, VA 22192 | Jul. 5, 202 | 51011

[FR Doc. 2024-17832 Filed 8-9-24; 8:45 am]

BILLING CODE 9110-12-P